DEPARTMENT OF THE TREASURY

Submission for OMB Review; Comment Request

June 22, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 28, 2006 to be assured of consideration.

Financial Management Service

OMB Number: 1510-0043.

Type of Review: Extension.

Title: Notice of Reclamation and Debit Request for Recurring Benefit Payments.

Form: FMS 133 and 135.

Description: A program agency authorizes Treasury to recover payments that have been issued after the death of the beneficiary. FMS Form 133 is used to notify the FI. If the FI does not respond to the 133, a debit request Form 135 is sent to the FRB.

Respondents: Business or other for-profit.

Estimated Total Burden Hours: 79,335 hours.

Clearance Officer: Jiovannah Diggs, Financial Management Service, Room 144, 3700 East West Highway, Hyattsville, MD 20782. (202) 874-7662.

OMB Reviewer: Alexander T. Hunt, Office of Management and Budget, Room 10235, New Executive Office Building, Washington, DC 20503. (202) 395-7316.

Michael A. Robinson,
Treasury PRA Clearance Officer.

[FR Doc. E6-10193 Filed 6-27-06; 8:45 am]

BILLING CODE 4810-35-P